DEPARTMENT OF TRANSPORTATION

Federal Aviation Administration

Intent To Prepare an Environmental Impact Statement and To Hold an Environmental Scoping Meeting for James M. Cox-Dayton International Airport, Vandalia, OH

AGENCY: Federal Aviation Administration, DOT.

ACTION: Notice of intent to prepare an environmental impact statement and hold public scoping meetings.

SUMMARY: The Federal Aviation Administration (FAA) intends to prepare an Environmental Impact Statement (EIS) to address anticipated environmental impacts associated with the implementation of proposed improvements at James M. Cox-Dayton International Airport. Because the project includes the realignment of off-Airport roadways, the Federal Highways Administration (FHWA) will be a cooperating agency.

FOR FURTHER INFORMATION CONTACT: Ernest P. Gubry, Community Planner; Federal Aviation Administration; Detroit Airports District Office; Willow run Airport East; 8820 Beck Road; Belleville, Michigan 48111; Telephone: (734) 487-7280; E-mail: Ernest.Gubry@faa.gov

SUPPLEMENTARY INFORMATION: The FAA intends to prepare an EIS for proposed runway improvements and associated airfield improvements and roadway realignments at James M. Cox-Dayton International Airport. The project proposes to: (1) Extend Runway 6R-24L 4,400 feet to the southeast and decommission the northeastern 400 feet of the runway for a total runway length of 11,000 feet and (2) extend Runway 18-36 4,100 feet to the north and decommission the southern 3,100 feet of the runway for a total runway length of 9,500 feet. The project also includes the associated airfield improvements. The proposed extension of Runway 6R-24L would require the realignment of the Airport Access Road and U.S. 40. Therefore FHWA will be the cooperating agency.

The EIS will be prepared in accordance with the requirements of the National Environmental Policy Act (NEPA), following the guidelines for airport projects as outlined in FAA Order 1050.1D, Policies and Procedures for Considering Environmental Impacts and FAA Order 5050.4A, Airport Environmental Handbook. The EIS will also be prepared to meet the requirements of FHWA.

Public Scoping Meetings

The FAA intends to conduct an agency scoping meeting and three public scoping meetings to obtain input regarding any issues of concern associated with the proposed project. Federal, State, and local agencies which have jurisdiction by law or have specific qualifications or expertise with respect to the potential environmental impacts will be notified and invited by letter to attend a scoping meeting on Tuesday, August 14, 2001, from 10:00 a.m. until noon at the Dayton Airport Hotel.

Members of the public are invited to attend public scoping meetings to be held on the following dates and times at the following locations:

Tuesday, August 14, 2001, 4 p.m. to 8 p.m., Butler High School Cafeteria, 600 South Dixie Drive, Vandalia, Ohio 45377

Wednesday, August 15, 2001, 4 p.m. to 8 p.m., Dayton Convention Center, Room 106, 22 East Fifth Street, Dayton, Ohio 45402

Thursday, August 16, 2001, 4 p.m. to 8 p.m., L.T. Ball Junior High School Cafeteria, 575 N. Hyatt Street, Tipp City, Ohio 45371

The meetings will all be identical in terms of content and format and are intended to allow the public an opportunity to provide their input to the process. Letters are being sent inviting individuals who have participated in meetings for the FAR part 150 Noise Compatibility Study Update or the Strategic Master Plan Update. A notice will also be placed in newspaper(s) of general and wide circulation in the project area inviting the public to the public scoping meetings. It should be noted that all comments provided at the scoping meetings will be considered equally and that a comment provided at more than one meeting by the same individual will not be considered any more heavily than a comment made by an individual at only one of the meetings. Written scoping comments may be sent to Mr. Gubry at the above noted address to be received prior to August 31, 2001.

Issued in Des Plaines, Illinois, on July 6, 2001.
Larry Ladendorf,
Assistant Manager, Airports Division, FAA, Great Lakes Region.

[FR Doc. 01-17569 Filed 7-12-01; 8:45 am]

BILLING CODE 4910-13-M